DEPARTMENT OF ENERGY

Federal Energy Regulatory Commission

[Docket No. IC04-582-001, FERC-582]

Commission Information Collection Activities, Proposed Collection; Comment Request; Submitted for OMB Review

July 30, 2004.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received no comments in response to an earlier Federal Register notice of April 14, 2004 (69 FR 19829-19830) and has made this notification in its submission to OMB.

DATES: Comments on the collection of information are due by August 31, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-582-001.

Documents filed electronically via the Internet must be prepared in MS Word, Portable Document Format, Word Perfect, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-582 “Electric Fees and Annual Charges.”

2. Sponsor: Federal Energy Regulatory Commission.

3. Control No.: 1902-0132.

The Commission is now requesting that OMB approve with a three-year extension of the expiration date, with no changes to the existing collection. The information filed with the Commission is mandatory.

4. Necessity of the Collection of Information: Submission of this information is necessary to enable the Commission to carry out its responsibilities in implementing the statutory provisions of the Independent Offices Appropriation Act of 1952 (IOAA) (31 U.S.C. 9701) which authorizes the Commission to establish fees for its services. In addition, the Omnibus Budget Reconciliation Act of 1986 (OBRA) (42 U.S.C. 71778) authorizes the Commission “to assess and collect fees and annual charges in any fiscal year in amounts equal to all the costs incurred by the Commission in that fiscal year.” In calculating annual charges, the Commission first determines the total costs of its electric regulatory program and then subtracts all electric regulatory program filing fee collections to determine the total collectible electric regulatory program costs. It then uses the data submitted under the Commission's information collection requirement FERC-582 to determine the total megawatt-hours of transmission of electric energy in interstate commerce. This is measured by the sum of the megawatt-hours of all unbundled transmission (including MWh delivered in wheeling transactions and MWh delivered in exchange transactions) and the megawatt-hours of all bundled wholesale power sales (to the extent these later megawatt-hours were not separately reported as unbundled transmission). This information must be reported to three decimal places. Public utilities and power marketers subject to these annual charges must submit FERC-582 to the Commission's Office of the Secretary by April 30 of each year. The Commission issues bills for annual charges, and then public utilities and power marketers must pay the charges within 45 days of the Commission's issuance of the bill.

The Commission's staff uses companies' financial information filed under waiver provisions to evaluate requests for a waiver or exemption of the obligation to pay a fee for an annual charge. The Commission implements the filing requirements in the Code of Regulations (CFR) under 18 CFR part 381, sections 381.108 and 381.302 and part 382, section 382.201(c).

5. Respondent Description: The respondent universe currently comprises 192 companies (on average per year) subject to the Commission's jurisdiction.

6. Estimated Burden: 768 total hours, 192 respondents (average per year), 1 response per respondent, and 4 hours per response (average).

7. Estimated Cost Burden to Respondents: 768 hours/2080 hours per years × $107,185 per year = $39,576. The cost per respondent is equal to $206.

Statutory Authority: 31 U.S.C. 9701 and 42 U.S.C. 71778.

Magalie R. Salas,
Secretary.

[FR Doc. E4-1733 Filed 8-5-04; 8:45 am]

BILLING CODE 6717-01-P